DEPARTMENT OF COMMERCE

National Oceanic and Atmospheric Administration

50 CFR Parts 622 and 640

RIN 0648-AY72

Fisheries of the Caribbean, Gulf of Mexico, and South Atlantic; Spiny Lobster Fishery of the Gulf of Mexico and South Atlantic; Amendment 10

AGENCY: National Marine Fisheries Service (NMFS), National Oceanic and Atmospheric Administration (NOAA), Commerce.

ACTION: Notice of availability; request for comments.

SUMMARY: The Gulf of Mexico and South Atlantic Fishery Management Councils (Councils) have submitted Amendment 10 to the Fishery Management Plan for the Spiny Lobster Fishery of the Gulf of Mexico and South Atlantic (FMP) for review, approval, and implementation by NMFS. Amendment 10 proposes actions to revise the lobster species contained within the fishery management unit; revise definitions of management thresholds; establish an acceptable biological catch control (ABC) rule, an annual catch limit (ACL), and an annual catch target (ACT) for Caribbean spiny lobster; revise the Federal spiny lobster tail-separation permitting requirements; revise the regulations specifying the condition of spiny lobster landed during a fishing trip; modify the undersized attractant regulations; modify the framework procedures; and transfer to the state of Florida the authority to remove derelict spiny lobster traps within the exclusive economic zone (EEZ) off Florida.

DATES: Written comments must be received on or before November 1, 2011.

ADDRESSES: You may submit comments on the amendment identified by NOAA-NMFS-2011-0106 by any of the following methods:

• Electronic submissions: Submit electronic comments via the Federal e-Rulemaking Portal: http://www.regulations.gov. Follow the instructions for submitting comments.

• Mail: Susan Gerhart, Southeast Regional Office, NMFS, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information.

To submit comments through the Federal e-rulemaking portal: http://www.regulations.gov, click on “submit a comment,” then enter “NOAA-NMFS-2011-0106” in the keyword search and click on “search.” To view posted comments during the comment period, enter “NOAA-NMFS-2011-0106” in the keyword search and click on “search.” NMFS will accept anonymous comments (enter N/A in the required field if you wish to remain anonymous). You may submit attachments to electronic comments in Microsoft Word, Excel, WordPerfect, or Adobe PDF file formats only.

Comments received through means not specified in this rule will not be considered.

Electronic copies of the amendment may be obtained from the Southeast Regional Office Web site at http://sero.nmfs.noaa.gov.

FOR FURTHER INFORMATION CONTACT: Susan Gerhart, telephone: 727-824-5305, or e-mail: Susan.Gerhart@noaa.gov.

SUPPLEMENTARY INFORMATION: The spiny lobster fishery of the Gulf of Mexico (Gulf) and the South Atlantic is managed under the FMP. The FMP was prepared by the Councils and implemented through regulations at 50 CFR parts 622 and 640 under the authority of the Magnuson-Stevens Fishery Conservation and Management Act (Magnuson-Stevens Act).

Background

The 2006 revisions to the Magnuson-Stevens Act require that in 2011, for FMPs for fisheries determined by the Secretary to not be subject to overfishing, ACLs must be established at a level that prevents overfishing and helps to achieve optimum yield (OY) within a fishery. The Magnuson-Stevens Act requires NMFS and regional fishery management councils to prevent overfishing and achieve, on a continuing basis, the OY from Federally managed stocks. These mandates are intended to ensure fishery resources are managed for the greatest overall benefit to the nation, particularly with respect to providing food production and recreational opportunities, and protecting marine ecosystems.

Actions Contained in the Amendment

The amendment proposes to remove four species from the FMP; revise definitions of management thresholds; establish an ABC control rule, an ACL, and an ACT for Caribbean spiny lobster; revise the requirements for the Federal spiny lobster tail-separation permit; revise the regulations specifying the condition of lobster landed during a fishing trip; modify the regulations with respect to the use of undersized attractants; modify the framework procedures; and transfer to the state of Florida the authority to remove unclaimed lobster traps within the EEZ off of Florida.

Removal of Species From the Fishery Management Unit

Five species of lobster are currently within the FMP: the Caribbean spiny lobster (Panulirus argus), the smoothtail spiny lobster (Panulirus laevicaus), the spotted spiny lobster (Panulirus guttatus), the Spanish slipper lobster (Scyllarides aequinoctialis), and the ridged slipper lobster (Scyllarides nodifer). At present, only the Caribbean spiny lobster and the ridged slipper lobster are managed with regulations; the other species are in the fishery management unit for data collection purposes only. Amendment 10 proposes to remove all species from the FMP except the Caribbean spiny lobster (spiny lobster). The Councils and NMFS have determined these other lobster species are not in need of Federal management at this time. Although these species are targeted in some areas, landings are relatively low. Individual states have the option to extend their regulations into Federal waters for these other lobster species. Furthermore, most landings of these species are off Florida, and Florida regulations concerning the taking of egg-bearing females, or stripping or removing eggs, are more conservative than Federal regulations for most of these species. Therefore, if Florida were to extend its regulations into Federal waters, these species could receive greater protection than under current management. If landings or effort changes for the other lobster species and the Councils determine management at the Federal level is needed, these species could be added back into the FMP at a later date.

Spiny Lobster ABC Control Rule, ACL, and ACT

In 2006, the Magnuson-Stevens Act was re-authorized and included a number of changes to improve the conservation of managed fishery resources. Included in these changes are requirements that fishery management councils establish both a mechanism for specifying ACLs at a level such that overfishing does not occur in a fishery and accountability measures (AMs) to help ensure that ACLs are not exceeded and to mitigate any ACL overages that may occur. Guidance also requires fishery management councils to establish a control rule to determine allowable biological catch (ABC).

The Councils accepted the ABC control rule developed by the Gulf Council's Scientific and Statistical Committee (SSC), which set the ABC for spiny lobster at 7.32 million lb (3.32 million kg). The Councils chose not to set sector allocations and set a stock ACL equal to the ABC. Therefore, the spiny lobster stock ACL is proposed to be set at 7.32 million lb (3.32 million kg). An ACT was set at 90 percent of the ACL, which is 6.59 million lb (2.99 million kg). If the ACT is exceeded in any year, the Councils will convene a scientific panel to review the ACL and ACT, and determine if additional AMs are needed. The ACT is proposed to serve as the AM for the spiny lobster stock. Landings have not exceeded the ACT level since the 2000/2001 fishing year. Therefore, it is unlikely the ACT would be exceeded under the current ACT preferred alternative based on landings history. However, the updated framework procedure contained within this amendment would facilitate timely adjustments of the ACT or ACL of AM if necessary.

Modify the Current Definitions for Management Thresholds

Definitions of maximum sustainable yield (MSY), OY, overfishing, and overfished were set for Caribbean spiny lobster in Amendment 6 to the FMP. Currently, the Councils have different definitions for each reference point. The amendment would set a single definition for each biological reference point that could be used by both Councils and simplify management. The maximum fishing mortality threshold would be set based on the overfishing limit (OFL) recommendation of the SSC of 7.90 million lb (3.58 million kg). The MSY proxy would be set equal to the OFL. The minimum stock size threshold, which is the overfished definition, would be equal to (1−M) × BMSY, where M equals natural mortality and B equals biomass.

Revisions to Federal Spiny Lobster Tail-Separation Permit Requirements

Spiny Lobster Amendment 1 (July 15, 1987, 52 FR 22659) initially implemented the Federal spiny lobster tail-separation permit. The original intent of the Councils was to confine holders of this permit to the commercial sector. However, the current requirements for obtaining the Federal spiny lobster tail-separation permit do not restrict the permit to commercial fishermen, which is contrary to the original intent. Amendment 10 proposes to require applicants for a Federal spiny lobster tail-separation permit to possess either (1) a Federal spiny lobster permit or (2) a valid Florida Restricted Species Endorsement and a valid Crawfish Endorsement associated with a valid Florida Saltwater Products License to obtain a tailing permit.

Condition of Spiny Lobster Landed During a Fishing Trip

Under certain situations and with possession of a valid Federal tail-separation permit, Caribbean spiny lobster tails may be separated from the body onboard a fishing vessel. This tail-separation provision can create difficulties for law enforcement personnel in determining if the lobster were originally of legal size, especially when some lobster of the same catch are whole and some are tailed. Amendment 10 proposes to require lobster be landed all whole or all tailed during a single fishing trip.

Use of Undersized Attractants

Federal regulations allow as many as 50 spiny lobsters less than the minimum size limit or one per trap, whichever is greater, to be retained aboard a vessel to attract other lobsters for harvest. Currently, Federal regulations are not consistent with Florida regulations, which allow the retention of as many as 50 spiny lobsters less than the minimum size limit and one per trap. Amendment 10 proposes to change the Federal regulations specific to the use of undersized attractants to be consistent with current Florida regulations. Additionally, although approximately 10 percent mortality is associated with the use of undersized attractants, traps using non-lobster bait or no bait at all take up to two to three times longer to harvest the same amount of lobsters as traps that use undersized attractants. The resulting increase in effort may increase the bycatch and bycatch mortality of other species. Therefore, the use of undersized attractants that are consistent with Florida regulations provides both enforcement and biological benefits.

Modification of Generic Framework Procedures

To facilitate timely adjustments to harvest parameters and other management measures, the Councils have added the ability to adjust ACLs and AMs, and establish and adjust target catch levels, including ACTs, to the current framework procedures. These adjustments or additions may be accomplished through a regulatory amendment which is less time intensive than an FMP amendment. By including ACLs, AMs, and ACTs in the framework procedure for specifying total allowable catch, the Councils and NMFS would have the flexibility to expeditiously alter those harvest parameters as new scientific information becomes available. The proposed addition of other management options into the framework procedures would also add flexibility and the ability to more timely respond to certain future Council decisions through the framework procedures.

Removal of Derelict Spiny Lobster Traps in the EEZ Off Florida

On August 27, 2009, an Endangered Species Act (ESA) biological opinion evaluating the impacts of the continued authorization of the spiny lobster fishery on ESA-listed species was completed. The opinion contained specific terms and conditions required to implement the prescribed reasonable and prudent measures, including allowing the public to remove trap-related marine debris in EEZ off Florida. Amendment 10 proposes to delegate authority to Florida to clean up derelict traps in Federal waters off Florida. Florida currently has a trap cleanup program that includes provisions for public participation.

Other Actions Contained in Amendment 10

Currently, no allocations are set between the commercial and recreational sectors for spiny lobster. The Councils considered setting such allocations, but instead chose to not sector allocations and therefore allow for a stock ACL, stock ACT, and AM that affects both sectors.

The Councils considered alternatives to meet requirements from the 2009 biological opinion to establish lobster closed areas and lobster gear trap line marking requirements to protect threatened and endangered species; however, they chose to take no action at this time to allow time for additional stakeholder input. The Councils intend to develop Amendment 11 to the Spiny Lobster FMP to implement these measures prior to the beginning of the next spiny lobster commercial fishing season that begins on August 6, 2012.

Proposed Rule for Amendment 10

A proposed rule that would implement measures outlined in Amendment 10 has been drafted. In accordance with the Magnuson-Stevens Act, NMFS is evaluating Amendment 10 to determine whether it is consistent with the FMP, the Magnuson-Stevens Act, and other applicable law. If the determination is affirmative, NMFS will publish the proposed rule in the Federal Register for public review and comment.

Consideration of Public Comments

The Councils submitted Amendment 10 for Secretarial review, approval, and implementation. NMFS' decision to approve, partially approve, or disapprove Amendment 10 will be based, in part, on consideration of comments, recommendations, and information received during the comment period on this notice of availability.

Public comments received by 5 p.m. eastern time, on November 1, 2011, will be considered by NMFS in the approval/disapproval decision regarding Amendment 10.

Authority: 16 U.S.C. 1801 et seq.

Dated: August 30, 2011.
James P. Burgess,
Acting Director, Office of Sustainable Fisheries, National Marine Fisheries Service.

[FR Doc. 2011-22590 Filed 9-1-11; 8:45 am]

BILLING CODE 3510-22-P